NUCLEAR REGULATORY COMMISSION

[Docket No. 50-407, NRC-2011-0153]

University of Utah, University of Utah TRIGA Nuclear Reactor, Notice of Issuance of Renewed Facility Operating License No. R-126

AGENCY: Nuclear Regulatory Commission.

ACTION: Notice of issuance of renewed facility operating license.

ADDRESSES: You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1 (800) 397-4209, (301) 415-4737, or by email to pdr.resource@nrc.gov.

• Federal Rulemaking Web Site: Public comments and supporting materials related to this final rule can be found at http://www.regulations.gov by searching on Docket ID NRC-2011-0153. Address questions about NRC dockets to Carol Gallagher, telephone: (301) 492-3668; email: Carol.Gallagher@nrc.gov.

For details with respect to the application for renewal, see the licensee's letter dated March 25, 2005 (ADAMS Accession No. ML050900074), as supplemented on June 1, 2009 (ADAMS Accession No. ML092090027), February 9, 2010 (ADAMS Accession No. ML100550670), March 10, 2010 (ADAMS Accession No. ML100810143), May 13, 2010 (ADAMS Accession No. ML101380222), May 27, 2010 (ADAMS Accession No. ML101600188), October 4, 2010 (two letters), (ADAMS Accession Nos. ML103210041 and ML103160196), June 8, 2011 (ADAMS Accession No. ML111720666), July 15, 2011 (ADAMS Accession No. ML11207A429), August 23, 2011 (ADAMS Accession No. ML11249A053), and August 31, 2011 (ADAMS Accession No. ML112490384).

FOR FURTHER INFORMATION CONTACT: Geoffrey Wertz, Project Manager, Research and Test Reactor Licensing Branch, Division of Policy and Rulemaking, Office of Nuclear Reactor Regulation, U.S. Nuclear Regulatory Commission, Rockville, MD 20852. Telephone: (301) 415-0893; fax number: (301) 415-3031; email: Geoffrey.Wertz@nrc.gov.

SUPPLEMENTARY INFORMATION: The U.S. Nuclear Regulatory Commission (NRC or the Commission) has issued renewed Facility Operating License No. R-126, held by the University of Utah (UU, the licensee), which authorizes continued operation of the UU TRIGA Nuclear Reactor (UUTR), located in Salt Lake City, Utah. The UUTR is a pool-type, natural convection, light-water cooled, and shielded TRIGA (Training, Research, Isotope Production, General Atomics) reactor fuel. The UUTR is licensed to operate at a steady-state power level of 100 kilowatts thermal power. The renewed Facility Operating License No. R-126 will expire 20 years from its date of issuance.

The renewed facility operating license complies with the standards and requirements of the Atomic Energy Act of 1954, as amended (the Act), and the Commission's rules and regulations. The Commission has made appropriate findings as required by the Act and the Commission's regulations in Title 10, Chapter 1, “Nuclear Regulatory Commission,” of the Code of Federal Regulations (10 CFR), and sets forth those findings in the renewed facility operating license. The agency afforded an opportunity for hearing in the Notice of Opportunity for Hearing published in the Federal Register on July 21, 2011 (76 FR 43733-43737). The NRC received no request for a hearing or petition for leave to intervene following the notice.

The NRC staff prepared a safety evaluation report for the renewal of Facility Operating License No. R-126 and concluded, based on that evaluation, the licensee can continue to operate the facility without endangering the health and safety of the public. The NRC staff also prepared an Environmental Assessment and Finding of No Significant Impact for the renewal of the facility operating license, noticed in the Federal Register on September 28, 2011 (76 FR 60091-60094), and concluded that renewal of the facility operating license will not have a significant impact on the quality of the human environment.

Dated at Rockville, Maryland, this 31st day of October, 2011.
For the Nuclear Regulatory Commission.
Patricia A. Silva,
Acting Chief, Research and Test Reactors Licensing Branch, Division of Policy and Rulemaking, Office of Nuclear Reactor Regulation.

[FR Doc. 2011-28892 Filed 11-7-11; 8:45 am]

BILLING CODE 7590-01-P